DEPARTMENT OF COMMERCE

National Oceanic and Atmospheric Administration

RIN 0648-XA080

New England Fishery Management Council; Public Hearings

AGENCY: National Marine Fisheries Service (NMFS), National Oceanic and Atmospheric Administration (NOAA), Commerce.

ACTION: Monkfish Fishery Management Plan Amendment 6; Scoping Hearings; Request for Comments.

SUMMARY: The New England Fishery Management Council (NEFMC) will hold public hearings to solicit comments on proposals to be included in the Draft Amendment 6 to the Monkfish Fishery Management Plan (FMP). The purpose of Amendment 6 is to consider one or more catch share management approaches for the monkfish fishery, including, but not limited to, Individual Fishery Quotas (IFQs), sectors and/or community quotas. The NEFMC is initiating a public process to determine the scope of issues and range of alternatives to be addressed in Amendment 6 and its environmental impact statement (EIS).

DATES: Written comments must be received on or before 5 p.m. EST, February 15, 2011. The public hearings will be held from January 4, 2011 to February 9, 2011. For specific dates and times, see SUPPLEMENTARY INFORMATION.

ADDRESSES: The Council will take comments at public meetings in Gloucester, MA; Hyannis, MA; New Bedford, MA; Warwick, RI; Portland, ME; Riverhead, NY; Manahawkin, NJ; Ocean City, MD, and New Bern, NC. For specific locations, see SUPPLEMENTARY INFORMATION. Written comments should be sent to Patricia Kurkul, Regional Administrator, National Marine Fisheries Service, 55 Great Republic Drive, Gloucester, MA 01930. Comments may also be sent via fax to (978) 281-9135 or submitted via e-mail to monkfisha6@noaa.gov with Scoping Comments on Monkfish Amendment 6 in the subject line. Requests for copies of the scoping document and other information should be directed to Paul J. Howard, Executive Director, New England Fishery Management Council, 50 Water Street, Mill 2, Newburyport, MA 01950; telephone: (978) 465-0492.

FOR FURTHER INFORMATION CONTACT: Paul J. Howard, Executive Director, New England Fishery Management Council; telephone: (978) 465-0492.

SUPPLEMENTARY INFORMATION: The U.S. monkfish fishery is jointly managed by the NEFMC and the Mid-Atlantic Fishery Management Council (MAFMC), with the NEFMC having the administrative lead. On November 30, 2010, the NEFMC, in coordination with NMFS, published a Notice of Intent (NOI) to prepare an EIS for Amendment 6 to the Monkfish FMP (75 FR 74005). At that time only one hearing was scheduled to be held on December 15, 2010 at 4:30 p.m. in conjunction with the MAFMC meeting in Virginia Beach, VA. The purpose of this notification is to alert the interested public of additional public scoping hearings that were scheduled following the publication of the NOI for Amendment 6. The following schedule provides the information for these public hearings.

The dates, times, locations and telephone numbers of the hearings are as follows:

Tuesday, January 4, 2011 at 3 p.m.—Annisquam River Marine Fisheries Station, 30 Emerson Avenue, Gloucester, MA 01930; telephone: (978) 282-0308;

Monday, January 10, 2011 at 3 p.m.—Holiday Inn, 1127 Route 132, Hyannis, MA 02601; telephone: (508) 775-1153;

Tuesday, January 11, 2011 at 9 a.m.—Fairfield Inn & Suites, 185 MacArthur Drive, New Bedford, MA 02740; telephone: (774) 634-2000;

Tuesday, January 11, 2011 at 4 p.m.—Hilton Garden Inn, One Thurber Street, Warwick, RI 02886; telephone: (401) 734-9600;

Wednesday, January 19, 2011 at 1 p.m.—Clarion Hotel, 1230 Congress Street, Portland, ME 04101; telephone: (207) 774-5611;

Monday, January 31, 2011 at 1 p.m.—Holiday Inn Express East End, 1707 Old Country Road, Riverhead, NY 11901; telephone: (631) 548-1000;

Tuesday, February 1, 2011 at 9 a.m.—Holiday Inn, 151 Route 72 East, Manahawkin, NJ 08050; telephone: (609) 481-6100;

Wednesday, February 2, 2011 at 9 a.m.—Clarion Fontaineblue Hotel, 101st Street on the Ocean, Ocean City, MD 21842; telephone: (800) 638-2100;

Wednesday, February 9, 2011 at 4:30 p.m.—Hilton Riverfront Hotel, 100 Middle Street, New Bern, NC 28560; telephone: (252) 638-3585.

Special Accommodations

These hearings are physically accessible to people with physical disabilities. Requests for sign language interpretation or other auxiliary aids should be directed to Paul J. Howard (see ADDRESSES) at least 5 days prior to the meeting date.

Authority: 16 U.S.C. 1801 et seq.

Dated: December 6, 2010.
Tracey L. Thompson,
Acting Director, Office of Sustainable Fisheries, National Marine Fisheries Service.

[FR Doc. 2010-30950 Filed 12-8-10; 8:45 am]

BILLING CODE 3510-22-P